ADVISORY COUNCIL ON HISTORIC PRESERVATION

Notice of Meeting

AGENCY: Advisory Council on Historic Preservation.

ACTION: Notice of meeting.

SUMMARY: Notice is hereby given that the Advisory Council on Historic Preservation (ACHP) will meet on Friday, November 14, 2008. The meeting will be held in the Caucus Room of the Russell Senate Office Building, 1st and Constitution Avenues, NE., Washington, DC at 9 a.m.

The ACHP was established by the National Historic Preservation Act of 1966 (16 U.S.C. 470 et seq. ) to advise the President and Congress on national historic preservation policy and to comment upon Federal, federally assisted, and federally licensed undertakings having an effect upon properties listed in or eligible for inclusion in the National Register of Historic Places. The ACHP's members are the Architect of the Capitol; the Secretaries of the Interior, Agriculture, Defense, Housing and Urban Development, Commerce, Education, Veterans Affairs, and Transportation; the Administrator of the General Services Administration; the Chairman of the National Trust for Historic Preservation; the President of the National Conference of State Historic Preservation Officers; a Governor; a Mayor; a Native American; and eight non-Federal members appointed by the President.

The agenda for the meeting includes the following:

Call To Order—9 a.m.

I. Chairman's Welcome

II. Preserve America Award Presentation

III. Native American Activities

A. Native American Advisory Group

B. Native American Program Report

IV. Preserve America Program Implementation

A. Preserve America Stewards Initiative

B. Preserve America Communities and Grants

C. Preserve America Summit Implementation

D. Preserve America/Save America's Treasures Authorizing Legislation

V. Transition Planning

A. Development of ACHP Transition Plan

B. Sustainability and Historic Preservation in the New Administration

VI. Preservation Initiatives Committee

A. Legislative Update

B. Economic Benefits of Preservation Study

VII. Federal Agency Programs Committee

A. National Park Service Programmatic Agreement

B. Bureau of Land Management Nationwide Programmatic Agreement

C. Department of Defense Program Comments

D. Corps of Engineers Appendix C

E. Emergencies and Historic Preservation

F. Transportation Issues

G. Section 106 Cases

VIII. Communications, Education, and Outreach Committee

A. 2009 Preserve America Presidential Awards

B. Department of Education/ACHP Initiatives

IX. Chairman's Report

A. ACHP Alumni Foundation

B. ACHP FY 2009 Appropriation/FY 2010 Budget Estimates

X. Executive Director's Report

A. Old Post Office Redevelopment Legislation

B. OFAP Director Recruitment

XI. New Business

XII. Adjourn

Note: The meetings of the ACHP are open to the public.

If you need special accommodations due to a disability, please contact the Advisory Council on Historic Preservation, 1100 Pennsylvania Avenue, NW., Room 803, Washington, DC, 202-606-8503, at least seven (7) days prior to the meeting. For further information: Additional information concerning the meeting is available from the Executive Director, Advisory Council on Historic Preservation, 1100 Pennsylvania Avenue, NW., #803, Washington, DC 20004.

Dated: November 4, 2008.
John Fowler,
Executive Director.

[FR Doc. E8-26652 Filed 11-10-08; 8:45 am]

BILLING CODE 4310-K6-M